DEPARTMENT OF HEALTH AND HUMAN SERVICES

Office of the Secretary

Delegation of Authority; Centers for Medicare & Medicaid Services

Notice is hereby given that I have delegated to the Administrator, Centers for Medicare & Medicaid Services (CMS), or his or her successor, the authorities vested in the Secretary for the following provisions of Part A (42 U.S.C. 1301 et seq., as amended) and Part B (42 U.S.C. 1320c et seq., as amended) of Title XI of the Social Security Act (the Act) (42 U.S.C. 1301 et seq., as amended) insofar as such parts pertain to CMS' mission, as described in Section F.00 of CMS' Statement of Organization, Functions, and Delegations of Authority, last published at 55 FR 9363 (March 13, 1990).

Part A (General Provisions) of Title XI of the Act

• Section 1106—The authority under Section 1106, as amended, pertaining to disclosure of information in possession of CMS.

• Section 1110—The authority under Section 1110, as amended, to make grants to States and public and other organizations and agencies for paying part of the cost of research or demonstration projects such as those relating to the prevention and reduction of dependency, or which will aid in effecting coordination of planning between private and public welfare agencies or which will help improve the administration and effectiveness of programs carried on or assisted under the Act and programs related thereto, and to make contracts or jointly financed cooperative arrangements with States and public and other organizations and agencies for the conduct of research or demonstration projects relating to such matters. Refer to F.50.1.a.

• Section 1112—The authority under Section 1112, as amended, to develop and revise from time to time guides or recommended standards regarding the level, content, and quality of medical care and medical services for the use of the States in evaluating and improving public assistance medical care programs and the State programs of medical assistance.

• Section 1116—The authority under Section 1116, as amended, pertaining to State plans thereto under Title XIX of the Act. Refer to F.50.1.b.

• Section 1121—The authority under Section 1121, as amended, pertaining to uniform reporting systems for health services facilities and organizations.

• Section 1122(d), (e) and (f)—The authority under Section 1122(d) and (e), as amended, to identify and deny unnecessary capital expenditure payment amounts to be excluded from reimbursement to health care facilities under Titles XVIII and XIX of the Act when such exclusions have been found necessary and Section 1122(f), as amended, to reconsider determinations made under Section 1122 of the Act.

• Section 1124—The authority under Section 1124, as amended, pertaining to disclosure of ownership and related information by providers, carriers, intermediaries, and similar organizations.

• Section 1124A—The authority under Section 1124A, as amended, pertaining to disclosure requirements for other providers under Part B of Title XVIII of the Act.

• Section 1126—The authority under Section 1126, as amended, pertaining to disclosure by institutions, organizations, and agencies of owners and certain other individuals who have been convicted of certain offenses.

• Section 1128(c)(3)(B)—The authority under Section 1128(c)(3)(B), as amended, to request a waiver of program exclusion from the Office of Inspector General of the Department of Health and Human Services.

• Section 1132—The authority under Section 1132, as amended, pertaining to claims submitted by States for payment with respect to expenditures that affect only programs for which the Administrator, CMS, has delegated authority, including Titles XIX and XXI of the Act. Refer to F.50.1.e.

• Section 1134—The authority under Section 1134, as amended, pertaining to determinations of whether the reasonable costs of services provided to nonprofit hospitals or critical access hospitals are to be deducted from the operating costs of such hospitals or critical access hospitals.

• Section 1137—The authority under Section 1137, as amended, pertaining to income and eligibility verification system for the Medicaid program under Title XIX of the Act.

• Section 1138—The authority under Section 1138, as amended, pertaining to hospital protocols for organ procurement and standards for organ procurement agencies.

• Section 1139—The authority under Section 1139, as amended, pertaining to improving access to, and delivery of, health care for Indians under Titles XIX and XXI of the Act.

• Section 1139A—The authority under Section 1139A, as amended, pertaining to child health quality measures for children enrolled in Medicaid or the Children's Health Insurance Program.

• Section 1144(c)—The authority under Section 1144(c), as amended, pertaining to assistance with Medicare savings program and low-income subsidy program applications.

• Section 1146—The authority under Section 1146, as amended, pertaining to public disclosure of certain information on hospital financial interest and referral patterns.

Part B (Peer Review of the Utilization and Quality of Health Care Services) of Title XI of the Act

• Section 1152—The authority under Section 1152, as amended, pertaining to utilization and quality control peer review organizations.

• Section 1153—The authority under Section 1153, as amended, to contract with utilization and quality control peer review organizations.

• Section 1154—The authority under Section 1154, as amended, pertaining to the functions of the peer review organizations.

• Section 1155—The authority under Section 1155, as amended, pertaining to the right of a beneficiary, provider, or practitioner to request that a utilization and quality control peer review organization reconsider a determination made by that organization. Refer to F.50.1.f.

• Section 1157—The authority under Section 1157, as amended, pertaining to violations of law, limitations on liability and payment for certain legal expenses.

• Section 1158—The authority under Section 1158, as amended, pertaining to utilization and quality control peer review organizations performing certain functions described in Part B of Title XI of the Act under contracts with State programs receiving Federal financial assistance under Title XIX of the Act.

• Section 1159—The authority under Section 1159, as amended, to authorize use of certain funds to administer the provisions of Part B of Title XI of the Act.

• Section 1160—The authority under Section 1160, as amended, to prohibit against disclosure of information pursuant to a contract under Part B of Title XI of the Act, except that authorities for controlling fraud and abuse under Section 1160(b) of the Act shall be exercised by the Office of Inspector General.

This delegation of authority supersedes the authorities delegated under Part A (42 U.S.C. 1301 et seq.) of Title XI of the Act and Part B (42 U.S.C. 1320c et seq.) of Title XI of the Act that were published in the Federal Register notice on September 6, 1984, including the authorities contained in paragraphs C.1.—15., and D. of Section F.30—Delegations of Authority; and includes F.40.—Reservations of Authority, 1.—Under Part B of Title XI of the Social Security Act (42 U.S.C. 1320(c) et. seq.); 3.—General Reservations, paragraphs a. and b. Section F.50.—Limitations of Authority, 1.—Under Parts A and B of Title XI of the Social Security Act (42 U.S.C. 1320 et. seq), is deleted in its entirety and replaced with the following:

a. Disputes regarding the determinations listed in 45 CFR Part 16, Appendix A, pertaining to discretionary grants, such as grants for research or demonstration projects under section 1110 (42 U.S.C. 1310) of the Act or for special demonstration projects under Section 1115 (42 U.S.C. 1315) of the Act, are heard by the Chair and Members of the Departmental Appeals Board, Office of the Secretary, who issue the final HHS decision. See 42 CFR 430.3 and 457.206; 46 FR 43816.

b. The authority to hear appeals and issue final HHS decisions under Section 1116(e) (42 U.S.C. 1316(e)) of the Act with respect to disallowances or reconsidered disallowances under Title XIX of the Act shall be exercised only by the Chair and Members of the Departmental Appeals Board, Office of the Secretary, pursuant to Section 1116(e)(2) (42 U.S.C. 1316(e)(2)) of the Act. This includes an appeal of a Title XIX disallowance based on a State's failure to meet the timely claims requirements of Section 1132 (42 U.S.C. 1320b-2) of the Act.

c. The authorities under Sections 1128 (42 U.S.C. 1320a-7), 1128A (42 U.S.C. 1320a-7a), 1128B (42 U.S.C. 1320a-7b), 1128D (42 U.S.C. 1320a-7d), 1128E(b)(6) (42 U.S.C. 1320a-7e(b)(6)), 1140 (42 U.S.C. 1320b-10), 1156(b) (42 U.S.C. 1320c-5(b)), and 1160(b) (42 U.S.C. 1320c-9(b)) of the Act for controlling fraud and abuse in healthcare programs shall be exercised by the Office of Inspector General.

d. The hearings to which the procedures in section 1128A(c) (42 U.S.C. 1320a-7a(c)) of the Act apply, as well as the hearings under any other section of the Act authorizing the Secretary to impose a civil remedy, including a civil money penalty, exclusion, or assessment, for which the Secretary has delegated authority to the Administrator, CMS, or to the Office of Inspector General to impose the remedy, shall be conducted by Administrative Law Judges at the Departmental Appeals Board, Office of the Secretary, who issue initial decisions subject to review and final determinations made by the Chair and Members of the Departmental Appeals Board. See 59 FR 52967; 42 CFR Parts 402 and 1002-1004, incorporating the procedures at 42 CFR Part 1005; 42 CFR Part 422, Subpart T; 42 CFR Part 423, Subpart T; and 45 CFR Part 160.

e. Disallowances under Title XXI of the Act, including disallowances based on State's failure to meet the timely claims requirements of Section 1132 (42 U.S.C. 1320b-2) of the Act, are subject to reconsideration by the Chair and Members of the Departmental Appeals Board, Office of the Secretary, under section 1116(d) (42 U.S.C. 1316(d)) of the Act, made applicable to Title XXI by Section 2107(e) (42 U.S.C. 1397gg(e)) of the Act. See 42 CFR 457.206.

f. The hearings under Section 1155 (42 U.S.C. 1320c-4) of the Act, which incorporates by reference Section 205(b) (42 U.S.C. 405(b)) of the Act, shall be conducted by Administrative Law Judges in the Office of Medicare Hearings and Appeals, Office of the Secretary, with review by the Medicare Appeals Council at the Departmental Appeals Board, Office of the Secretary. See 42 CFR Part 478, Subpart B and 42 CFR Part 405, Subpart J.

g. The hearings under Section 1156(b)(4) (42 U.S.C. and1320c-5(b)(4)) of the Act, which incorporates section 205(b) (42 U.S.C. 405(b)) of the Act, shall be conducted by the Administrative Law Judges at the Departmental Appeals Board, Office of the Secretary, who issue initial decisions subject to review and final determinations made by the Chair and Members of the Departmental Appeals Board. See 42 CFR Part 1004, incorporating the procedures at 42 CFR Part 1005; 59 FR 52967.

This delegation of authority is effective immediately.

These authorities may be re-delegated.

These authorities shall be exercised under the Department's policy on regulations and the existing delegation of authority to approve and issue regulations.

I hereby affirm and ratify any actions taken by the Administrator, CMS, or his or her subordinates, which involved the exercise of the authorities under Part A (42 U.S.C. 1301 et seq.) of Title XI of the Act and Part B (42 U.S.C. 1320c et seq.) of Title XI of the Act delegated herein prior to the effective date of this delegation of authority.

Authority: 44 U.S.C. 3101

Dated: March 4, 2011.
Kathleen Sebelius,
Secretary.

[FR Doc. 2011-5779 Filed 3-11-11; 8:45 am]

BILLING CODE 4120-01-P